ENVIRONMENTAL PROTECTION AGENCY

[FRL-6941-2]

Agency Information Collection Activities: Submission for OMB Review; Comment Request, National Emission Standards for Hazardous Air Pollutants, (NESHAP) Benzene Emissions From Benzene Storage Vessels and Coke By-Product Recovery Plants

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NESHAP for Benzene Emissions from Benzene Storage Vessels—40 CFR part 61, subpart Y, and Coke By-Product Recovery Plants, Subpart L, OMB No. 2060-0185, Expiration Date: January 31, 2001. The ICR describes the nature of the information collection and its expected burden and cost; where appropriate, it includes the actual data collection instrument.

DATES: Comments must be submitted on or before April 2, 2001.

ADDRESSES: Send comments, referencing EPA ICR No.1080.10 and OMB Control No. 2060-0185, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No.1080.10. For technical questions about the ICR contact Mr. Rafael Sánchez, telephone: (202) 564-7028, facsimile: (202) 564-0050.

SUPPLEMENTARY INFORMATION: Title: National Emission Standards for Hazardous Air Pollutants, Benzene Emissions from Benzene Storage Vessels and Coke By-Product Recovery Plants, OMB Control No. 2060-0185; EPA ICR No.1080.10, expiring January 31, 2001. This is a request for extension of a currently approved collection.

Abstract: Respondents are all owners or operators of benzene storage vessels and Coke By Product Recovery Plants. It is estimated that 162 existing plants are subject to the standard. All owners and operators of new or reconstructed plants would also have to respond. In the General Provisions of 40 CFR part 61 applicable to storage vessels, up to four separate onetime-only reports are required for each owner or operator: notification of construction or reconstruction, initial source report, notification of physical/operational changes, notification of anticipated and actual startup. The initial source report is the only one of these reports that would be required from existing sources under the standard. Certain records and reports are necessary to assist EPA and State agencies to which enforcement has been delegated in determining compliance with the standard.

An initial emissions test is not required because conducting an emission test is not feasible. Therefore, the format of the standard is that of an equipment standard. Owners or operators of vessels equipped with the specified controls are required to submit, along with the notifications required by the General Provisions, a report that describes the control equipment used to comply with the regulation. Thereafter, an annual visual inspection is required of the primary seal of internal floating roof vessels (IFR's) (in cases where no secondary seal is present). An annual seal gap measurement of the secondary seal system on external floating roof vessels (EFR's) is required. The following inspections are required every five years: (1) internal inspection of seal system on IFR's equipped with primary and secondary seals in situations where the owner or operator has decided to forego the annual visual inspection; and (2) measurement of gaps between the tank wall and primary seal on EFR's. An internal inspection in which the tank is emptied and degassed is required at least every 10 years for IFR's.

Subpart L was revised on September 19, 1991 to allow for the use of carbon adsorbers and vapor incinerators as alternative means of complying with the standards for process vessels, storage tanks and tar-intercepting sumps. The use of carbon absorbers and vapor incinerators instead of gas blanketing, the control technology on which the standards were based, is optional. The provisions include recordkeeping and reporting requirements specific to these alternative control devices. An information collection request (ICR number 1080.07) was developed for that revision and is consolidated into this ICR with this review.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on July 12, 1999 (64 FR 37530); no comments were received.

Burden Statement: The annual public reporting and record keeping burden for this collection of information is estimated to average 93 hours per combined subpart L & Y response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners or operators of Benzene Storage Vessels and Coke By-Product Recovery Plants.

Estimated Number of Respondents: 40.

Frequency of Response: Quarterly.

Estimated Total Annual Hour Burden: 7,131.

Estimated Total Annualized Capital, O&M Cost Burden: $0.

Send comments on the Agency's need for this information, the accuracy of the provided burden estimates, and any suggested methods for minimizing respondent burden, including through the use of automated collection techniques to the addresses listed above. Please refer to EPA ICR No. 1080.10 and OMB Control No.2060-0185 in any correspondence.

Dated: January 25, 2001.
Oscar Morales,
Director, Collection Strategies Division.

[FR Doc. 01-2770 Filed 1-31-01; 8:45 am]

BILLING CODE 6560-50-P